DEPARTMENT OF JUSTICE

Notice of Lodging of Consent Decree Under the Clean Water Act

Notice is hereby given that on April 30, 2007, a proposed Consent Decree in United States v. Hudson Sand and Gravel, Inc., et al., Civil Action No. 07-CV-00128-SM, was lodged with the United States District Court for the District of New Hampshire.

In this action, the United States sought a civil penalty and injunctive relief for violations of the Clean Water Act, 33 U.S.C. 1251, et seq., and its implementing regulations, in connection with a sand and gravel mining operation located off Pettingill Road in the town of Londonderry, New Hampshire owned and/or operated by the settling defendants. Specifically, the United States alleged that the settling defendants discharged stormwater from the property into waters of the United States without an appropriate permit, in violation of 33 U.S.C. 1311 and 1318, and that the settling defendants discharged pollutants into waters of the United States without a permit from the United States Army Corps of Engineers, in violation of 33 U.S.C. 1344. The Consent Decree requires the settling defendants to implement injunctive relief, including obtaining a proper stormwater permit for the property and delineating all wetlands on the property and undertaking appropriate restoration, if necessary. The Decree also requires the settling defendants to pay $250,000 civil penalty.

The Department of Justice will receive for a period of thirty (30) days from the date of this publication comments relating to the proposed Consent Decree. Comments should be addressed to the Assistant Attorney General, Environmental and Natural Resources Division, and either e-mailed to pubcomment-ees.enrd@usdoj.gov, or mailed to P.O. Box 7611, U.S. Department of Justice, Washington, DC 20044-7611, and should refer to United States v. Hudson Sand and Gravel, Inc., et al., D.J. Ref #90-5-1-1-08363.

The Consent Decree may be examined at the Office of the United States Attorney for the District of New Hampshire, 55 Pleasant Street, Room 352, Concord, New Hampshire 03301, and at U.S. EPA Region 1, 1 Congress Street, Suite 1100, Boston, Massachusetts 02114 (contact John Kilborn). During the public comment period, the Consent Decree also may be examined on the following Department of Justice Web site: http://www.usdoj.gov/enrd/Consent_Decrees.html. A copy of the Consent Decree also may be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $11.00 (25 cents per page reproduction cost) payable to the U.S. Treasury, or, if by email or fax, forward a check in that amount to the Consent Decree Library at the stated address.

Ronald Gluck,
Assistant Chief, Environmental Enforcement Section, Environment and Natural Resources Division.

[FR Doc. 07-2411 Filed 5-16-07; 8:45 am]

BILLING CODE 4410-15-M